DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web site at http://www.msha.gov/indexes/petition.htm. The public may inspect the petitions and final decisions during normal business hours in MSHA's Office of Standards, Regulations, and Variances, 1100 Wilson Boulevard, Room 2349, Arlington, Virginia 22209. All visitors must first stop at the receptionist desk on the 21st Floor to sign-in.

FOR FURTHER INFORMATION CONTACT: Roslyn B. Fontaine, Office of Standards, Regulations, and Variances at 202-693-9475 (Voice), fontaine.roslyn@dol.gov (Email), or 202-693-9441 (Telefax), or Barbara Barron at 202-693-9447 (Voice), barron.barbara@dol.gov (Email), or 202-693-9441 (Telefax). [These are not toll-free numbers.]

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2013-014-C.

FR Notice: 78 FR 19021 (3/28/2013).

Petitioner: Gibson County Coal, LLC, 3455 S 700 W, Owensville, Indiana 47665.

Mine: South Mine, MSHA I.D. No. 12-02388, located in Gibson County, Indiana.

Regulation Affected: 30 CFR 75.1700 (Oil and gas wells).

• Docket Number: M-2013-030-C.

FR Notice: 78 FR 49775 (8/15/2013).

Petitioner: Newtown Energy, Inc., P.O. Box 189, Comfort, West Virginia 25049.

Mine: Peerless Rachel Mine, MSHA I.D. No. 46-09258, located in Boone County, West Virginia.

Regulation Affected: 30 CFR 75.1700 (Oil and gas wells).

• Docket Number: M-2013-054-C.

FR Notice: 78 FR 78392 (12/26/2013).

Petitioner: Peabody Midwest Mining, LLC, Three Gateway Center, Suite 1500, 401 Liberty Avenue, Pittsburgh, Pennsylvania 15222-1000.

Mine: Wildcat Hills Underground Mine, MSHA I.D. No. 11-03156, located in Saline County, Illinois.

Regulation Affected: 30 CFR 75.1700 (Oil and gas wells).

• Docket Number: M-2014-001-C.

FR Notice: 79 FR 11136 (2/27/2014).

Petitioner: CONSOL Buchanan Mining Company, LLC, 1000 CONSOL Energy Drive, Canonsburg, Pennsylvania 15317-6506.

Mine: Buchanan Mine #1, MSHA I.D. No. 44-04856, located in Buchanan County, Virginia.

Regulation Affected: 30 CFR 75.503 (Permissible electric face equipment; maintenance) and 30 CFR 18.35(a)(5)(i) (Portable (trailing) cables and cords).

• Docket Number: M-2014-015-C.

FR Notice: 79 FR 30169 (5/27/2014).

Petitioner: Luminant Mining Company, LLC, P.O. Box 1359, Tatum, Texas 75691.

Mine: Liberty Strip Mine, MSHA I.D. No. 41-04964, located in Rusk County, Texas.

Regulation Affected: 30 CFR 77.803 (Fail safe ground check circuits on high-voltage resistance grounded systems).

• Docket Number: M-2014-016-C.

FR Notice: 79 FR 30170 (5/27/2014).

Petitioner: Cliffs Natural Resources, Inc., Cliffs Logan County Coal, LLC, P.O. Box 446, Man, West Virginia 25635.

Mine: Saunders Preparation Plant, MSHA I.D. No. 46-02140, located in Logan County, West Virginia.

Regulation Affected: 30 CFR 77.214(a) (Refuse piles; general).

• Docket Number: M-2014-019-C.

FR Notice: 79 FR 36562 (6/27/2014).

Petitioner: M-Class Coal Company, 11351 North Thompsonville Road, Macedonia, Illinois 62860.

Mine: M-Class Mine, MSHA I.D. No. 11-03189, located in Franklin County, Illinois.

Regulation Affected: 30 CFR 75.1909(b)(6) (Nonpermissible diesel-powered equipment; design and performance requirements).

• Docket Number: M-2014-022-C.

FR Notice: 79 FR 45465 (8/5/2014).

Petitioner: Mountain Coal Company, P.O. Box 591, 5174 Highway 133, Somerset, Colorado 81434.

Mine: West Elk Mine, MSHA I.D. No. 05-03672, located in Gunnison County, Colorado.

Regulation Affected: 30 CFR 75.1909(b)(6) (Nonpermissible diesel-powered equipment; design and performance requirements).

• Docket Number: M-2013-010-M.

FR Notice: 78 FR 59724 (9/27/2013).

Petitioner: U.S. Silica Company, 105 Burkett Switch Road, Jackson, Tennessee 38301.

Mine: Jackson Plant, MSHA I.D. No. 40-02937, located in Madison County, Tennessee.

Regulation Affected: 30 CFR 56.13020 (Use of compressed air).

• Docket Number: M-2014-001-M.

FR Notice: 79 FR 11139 (2/27/2014).

Petitioner: DMC Mining Services, 488 East 6400 South, Suite 250, Murray, Utah 84107.

Mine: Tata Chemicals Mine, MSHA I.D. No. 48-00155, 324 Allied Chemical Road, Green River, Wyoming 82935, located in Sweetwater County, Wyoming.

Regulation Affected: 30 CFR 57.22606(a) and (c) (Explosive materials and blasting units (III mines)).

• Docket Number: M-2014-002-M.

FR Notice: 79 FR 11139 (2/27/2014).

Petitioner: FMC Minerals, 580 Westvaco Road, Box 872, Green River, Wyoming 82935.

Mine: Westvaco Underground Trona Mine, MSHA I.D. No. 48-00152, located in Sweetwater County, Wyoming.

Regulation Affected: 30 CFR 57.22305 (Approved equipment (III mines)).

Dated: February 2, 2015.
Sheila McConnell,
Acting Director, Office of Standards, Regulations, and Variances.

[FR Doc. 2015-02277 Filed 2-4-15; 8:45 am]

BILLING CODE 4510-43-P